DEPARTMENT OF HOMELAND SECURITY

Coast Guard

[USCG-2009-0412]

Information Collection Request to Office of Management and Budget; OMB Control Numbers: 1625-0016, 1625-0023, 1625-0027, and 1625-0052

AGENCY: Coast Guard, DHS.

ACTION: Sixty-day notice requesting comments.

SUMMARY: In compliance with the Paperwork Reduction Act of 1995, the U.S. Coast Guard intends to submit Information Collection Requests (ICRs) and Analyses to the Office of Management and Budget (OMB) requesting an extension of its approval for the following collections of information: (1) 1625-0016, Welding and Hot Work Permits; Posting of Warning Signs; (2) 1625-0023, Barge Fleeting Facility Records; (3) 1625-0027,Vessel Documentation; and (4) 1625-0052, Nondestructive Testing of Certain Cargo Tanks on Unmanned Barges. Before submitting these ICRs to OMB, the Coast Guard is inviting comments as described below.

DATES: Comments must reach the Coast Guard on or before August 3, 2009.

ADDRESSES: To avoid duplicate submissions to the docket [USCG-2009-0412], please use only one of the following means:

(1) Online: http://www.regulations.gov.

(2) Mail: Docket Management Facility (DMF) (M-30), U.S. Department of Transportation (DOT), West Building Ground Floor, Room W12-140, 1200 New Jersey Avenue, SE., Washington, DC 20590-0001.

(3) Hand Deliver: Same as mail address above, between 9 a.m. and 5 p.m., Monday through Friday, except Federal holidays. The telephone number is 202-366-9329.

(4) Fax: 202-493-2251.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

Copies of the ICRs are available through the docket on the Internet at http://www.regulations.gov. Additionally, copies are available from Commandant (CG-611), U.S. Coast Guard Headquarters, (Attn: Mr. Arthur Requina), 2100 2nd Street SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether these ICRs should be granted based on the collections being necessary for the proper performance of Departmental functions. In particular, the Coast Guard would appreciate comments addressing: (1) The practical utility of the collections; (2) the accuracy of the estimated burden of the collections; (3) ways to enhance the quality, utility, and clarity of information subject to the collections; and (4) ways to minimize the burden of the collections on respondents, including the use of automated collection techniques or other forms of information technology.

We encourage you to respond to this request by submitting comments and related materials. We will post all comments received, without change, to http://www.regulations.gov. They will include any personal information you provide. We have an agreement with DOT to use their DMF. Please see the “Privacy Act” paragraph below.

Submitting comments: If you submit a comment, please include the docket number [USCG-2009-0412], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period and will address them accordingly.

Viewing Comments and Documents: Go to http://www.regulations.gov to view documents mentioned in this Notice as being available in the docket. Enter the docket number for this Notice [USCG-2009-0412] in the Search box, and click “Go >>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Information Collection Request

1. Title: Welding and Hot Work Permits; Posting of Warning Signs.

OMB Control Number: 1625-0016.

Summary: This information collection helps to ensure waterfront facilities and vessels are in compliance with safety standards. A permit must be issued prior to welding or hot work on certain waterfront facilities; and, the posting of warning signs is required on such facilities.

Need: The information is needed to ensure safe operations on certain waterfront facilities and vessels.

Forms: CG-4201.

Respondents: Owners and operators of certain waterfront facilities and vessels.

Frequency: On occasion.

Burden Estimate: The estimated burden has increased from 226 hours to 425 hours a year.

2. Title: Barge Fleeting Facility Records.

OMB Control Number: 1625-0023.

Summary: This collection of information requires the person-in-charge of a barge fleeting facility to keep records of twice-daily inspections of barge moorings, movements of barges, and hazardous cargo in and out of the facility.

Need: Title 33 CFR 165.803 requirements are intended to prevent barges from breaking away from a fleeting facility and drifting downstream out of control in the congested lower Mississippi River waterway system.

Forms: None.

Respondents: Operators of barge fleeting facilities.

Frequency: Daily.

Burden Estimate: The estimated burden has decreased from 61,919 hours to 60,390 hours a year.

3. Title: Vessel Documentation.

OMB Control Number: 1625-0027.

Summary: The information collected will be used to establish the eligibility of a vessel to: (a) Be documented as a “vessel of the United States,” (b) engage in a particular trade, and/or (c) become the object of a preferred ship's mortgage. The information collected concerns citizenship of owner/applicant, build, tonnage, and markings of a vessel.

Need: Title 46 U.S.C. Chapters 121, 123, 125, and 313 requires documentation of vessels. A Certificate of Documentation is required for operation of a vessel in certain trades, serves as evidence of vessel nationality, and permits a vessel to be subject to preferred mortgages.

Forms: CG-1258, CG-1261, CG-1270, CG-1280, CG-1340, CG-1356, CG-4593, CG-5397, and CG-5542.

Respondents: Owners/builders of yachts and commercial vessels of at least five-net tons.

Frequency: Annually.

Burden Estimate: The estimated burden has increased from 50,531 hours to 54,466 hours a year.

4. Title: Nondestructive Testing of Certain Cargo Tanks on Unmanned Barges.

OMB Control Number: 1625-0052.

Summary: The Coast Guard uses results of nondestructive testing to evaluate the suitability of older pressure-vessel-type cargo tanks of unmanned barges to remain in service. Such a tank, on an unmanned barge, 30 years and older is subjected to nondestructive testing once every 10 years.

Need: Under Title 46 U.S.C. 3703, the Coast Guard is responsible for ensuring safe shipment of liquid dangerous cargoes and has promulgated regulations for certain barges to ensure meeting of safety standards.

Forms: None.

Respondents: Owners of tank barges.

Frequency: Every 10 years.

Burden Estimate: The estimated burden has increased from 104 hours to 130 hours a year.

Dated: May 28, 2009.
M.B. Lytle,
Captain, U.S. Coast Guard, Acting Assistant Commandant for Command, Control, Communications, Computers and Information Technology.

[FR Doc. E9-12975 Filed 6-3-09; 8:45 am]

BILLING CODE 4910-15-P